DEPARTMENT OF THE INTERIOR

Fish and Wildlife Service

[FWS-R3-ES-2012-N225; FXES11120300000F2-123-FF03E00000]

Draft Midwest Wind Energy Multi-Species Habitat Conservation Plan Within Eight-State Planning Area; Reopening of Comment Period

AGENCY: Fish and Wildlife Service, Interior.

ACTION: Reopening of public comment period.

SUMMARY: We, the U.S. Fish and Wildlife Service (Service), advise the public that we, in coordination with our planning partners, are reopening the public comment period for receipt of comments pertaining to the development of the Midwest Wind Energy Multi-Species Habitat Conservation Plan.

DATES: To ensure consideration, we request written comments on or before December 3, 2012.

ADDRESSES: Send your comments or request information by any one of the following methods:

U.S. mail: Regional Director, Attn: Rick Amidon, U.S. Fish and Wildlife Service, Ecological Services, 5600 American Blvd. West, Suite 990, Bloomington, MN 55437-1458;

Facsimile: 612-713-5292 (Attn: Rick Amidon); or

Email: midwestwindhcp@fws.gov.

FOR FURTHER INFORMATION CONTACT: Rick Amidon, (612) 713-5164.

SUPPLEMENTARY INFORMATION: On August 30, 2012 (77 FR 52754), we, the U.S. Fish and Wildlife Service (Service), published a Federal Register notice to advise the public that we, in coordination with our planning partners, intend to prepare the Midwest Wind Energy Multi-Species Habitat Conservation Plan (MSHCP) under the Endangered Species Act of 1973, as amended (ESA). The notice also opened a 30-day public comment period, which ended October 1, 2012. With this notice, we are reopening the public comment period an additional 60 days. More information pertaining to this planning effort can be found in the original notice.

Public Comments

You may submit your comments and supporting documentation by any of the methods described in ADDRESSES, above.

We are requesting information and comment from interested government agencies, Native American Tribes, the scientific community, industry, or other interested parties concerning the planning process, our permitting approach, biological aspects of the interaction of wind facilities and species, scientific data that may help inform the MSHCP or monitoring of impacts, and any other information that interested parties would like to offer.

Please note that comments merely stating support for, or opposition to, the MSHCP under consideration without providing supporting information, although noted, will not provide information useful in determining relevant issues and impacts. The public will receive additional opportunity to provide comments on the draft EIS and draft MSHCP when they are completed. The Service will solicit comments by publishing notice in the Federal Register.

Public Availability of Comments

Before including your address, phone number, email address, or other personal identifying information in your comments, you should be aware that your entire comment—including your personal identifying information—may be made publicly available at any time. While you can ask us in your comment to withhold your personal identifying information from public review, we cannot guarantee that we will be able to do so.

Dated: September 18, 2012.
Lynn Lewis,
Assistant Regional Director, Ecological Services, Midwest Region.

[FR Doc. 2012-24401 Filed 10-2-12; 8:45 am]

BILLING CODE 4310-55-P